DEPARTMENT OF AGRICULTURE

Animal and Plant Health Inspection Service

[Docket No. 97-093-6]

Commercially Produced Official Identification Eartags and Backtags for Sheep and Goats

AGENCY: Animal and Plant Health Inspection Service, USDA.

ACTION: Notice.

SUMMARY: We are giving notice that the Animal and Plant Health Inspection Service has established a contact office for companies that wish to produce official identification eartags and backtags for sheep and goats. This office will advise companies on production standards necessary for eartags and backtags to qualify as the official identification that is required for certain sheep and goats under our regulations.

FOR FURTHER INFORMATION CONTACT: Dr. Diane Sutton, National Scrapie Program Coordinator, National Animal Health Programs Staff, VS, APHIS, 4700 River Road Unit 43, Riverdale, MD 20737-1231; (301) 734-6954.

SUPPLEMENTARY INFORMATION: Scrapie is a degenerative and eventually fatal disease affecting the central nervous systems of sheep and goats. To control the spread of scrapie within the United States, the Animal and Plant Health Inspection Service (APHIS), U.S. Department of Agriculture (USDA), administers regulations at 9 CFR part 79, which restrict the interstate movement of certain sheep and goats. APHIS also has regulations at 9 CFR part 54, which describe a voluntary scrapie control program.

These regulations require that, in some circumstances, certain sheep and goats must be either individually identified, or identified with their premises of origin. Eartags and backtags are two of the most common devices for accomplishing the required identification. As APHIS continues to revise and expand its scrapie programs, we anticipate that the demand for eartags and backtags for official identification will increase over the next few years. Federal and State agencies, accredited veterinarians, and sheep and goat flock owners will be looking for commercial sources to supply the needed eartags and backtags.

To assist interested companies that wish to produce eartags and backtags for sheep and goats, APHIS has identified the office of the National Scrapie Program Coordinator as the contact point for companies to obtain advice on the production standards eartags and backtags must meet to qualify as official identification in accordance with our regulations. Further details on production standards for eartags and backtags may be obtained from the office identified in the FOR FURTHER INFORMATION CONTACT section above. This office will also review sample tags for suitability and approve companies to produce official identification eartags and backtags.

In general, tags may be plastic or metal and must be an appropriate size for use in sheep and goats. Tags must be able to legibly accommodate any required alphanumeric sequences to identify individual animals or their premises. Tags must resist removal and must be difficult to place on another animal once removed, but need not be tamper-proof. Tags must be readily distinguishable as USDA official sheep and goat tags, must carry the alphanumeric sequences, symbols, or logos specified by APHIS, and must have a means of discouraging counterfeiting, such as use of a unique copyrighted logo or trade mark.

Done in Washington, DC, this 1st day of March 2001.
Bobby R. Acord,
Acting Administrator, Animal and Plant Health Inspection Service.

[FR Doc. 01-5589 Filed 3-6-01 8:45am]

BILLING CODE 3410-34-P